ELECTION ASSISTANCE COMMISSION

11 CFR Parts 9405, 9407, 9409, 9410, 9420, and 9428

Change of Address

AGENCY: United States Election Assistance Commission (EAC).

ACTION: Final rule; technical amendment.

SUMMARY: The U.S. Election Assistance Commission (EAC) is amending its regulations to reflect a change of address for its headquarters. This technical amendment is a nomenclature change that updates and corrects the address for contacting and submitting requests to EAC headquarters.

DATES: Effective October 25, 2018.

FOR FURTHER INFORMATION CONTACT: Clifford Tatum, General Counsel, U.S. Election Assistance Commission, 1335 East-West Highway, Suite 4300, Silver Spring, MD 20910; Telephone: 301-563-3957.

SUPPLEMENTARY INFORMATION: On October 17, 2013 EAC's Headquarters relocated from 1201 New York Avenue NW, Suite 300, Washington, DC 20005 to 1335 East-West Highway, Suite 4300, Silver Spring, MD 20910. This address appears as EAC's official agency address and serves as the reception point for agency visitors. Telephone numbers for EAC employees have changed to 301 Maryland area codes. The main office dial-in number is 866-747-1471 (toll free) or 301-563-3919. Employee numbers can be accessed via the telephone tree.

I. Statutory Authority

This action is taken under EAC's authority, at 5 U.S.C. 552, to publish regulations in the Federal Register. Under the Administrative Procedure Act, at 5 U.S.C. 553(b)(3)(B), statutory procedures for agency rulemaking do not apply “when the agency for good cause finds (and incorporates the finding and a brief statement of reasons therefore in the rules issued) that notice and public procedure thereon are impracticable, unnecessary, or contrary to the public interest.” EAC finds that such notice and public procedure are impracticable, unnecessary, or contrary to the public interest, on the grounds that: (1) These amendments are technical and non-substantive; and (2) the public benefits from timely notification of a change in the official agency address, and further delay is unnecessary and contrary to the public interest. Similarly, because this final rule makes no substantive changes and merely reflects a change of address in existing regulations, this final rule is not subject to the effective date limitation of 5 U.S.C. 553(d).

II. Regulatory Procedures

A. Small Entities

Under the Regulatory Flexibility Act (5 U.S.C. 601-612), EAC has determined that this rule would not have a significant economic impact on a substantial number of small entities. The regulation affects only the U.S. Election Assistance Commission. This rule does not require a general notice of proposed rulemaking and, therefore, is exempt from the requirements of the Regulatory Flexibility Act.

B. Collection of Information

This regulation contains no new information collection requirements subject to review by the Office of Management and Budget under the Paperwork Reduction Act of 1995 (44 U.S.C. 3501-3520).

C. Federalism

A rule has implications for federalism under Executive Order 13132, Federalism, if it has a substantial direct effect on State or local governments and would either preempt State law or impose a substantial direct cost of compliance on them. EAC analyzed this rule under that Executive Order and have determined that it does not have implications for federalism.

D. Taking of Private Property

This rule will not affect a taking of private property or otherwise have taking implications under Executive Order 12630, Governmental Actions and Interference with Constitutionally Protected Property Rights.

E. Civil Justice Reform

This rule meets applicable standards in sections 3(a) and 3(b)(2) of Executive Order 12988, Civil Justice Reform, to minimize litigation, eliminate ambiguity, and reduce burden.

F. Protection of Children

EAC analyzed this rule under Executive Order 13045, Protection of Children from Environmental Health Risks and Safety Risks. This rule is not an economically significant rule and does not create an environmental risk to health or risk to safety that may disproportionately affect children.

G. Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

H. Energy Effects

EAC analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy.

I. Technical Standards

The National Technology Transfer and Advancement Act (NTTAA) (15 U.S.C. 272 note) directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

J. Environment

EAC analyzed this final rule under Department of Homeland Security Management Directive 023-01 which guides EAC in complying with the National Environmental Policy Act of 1969 (NEPA) (42 U.S.C. 4321-4365), and concluded that this rule is part of a category of actions described in item A3 of Table 1 in Appendix A of the Management Directive. This rulemaking does not individually or cumulatively have a significant effect on the human environment and, therefore, neither an environmental assessment nor an environmental impact statement is necessary.

K. Congressional Review Act

EAC will submit this final rule to Congress and the Government Accountability Office pursuant to the Congressional Review Act. The rule is effective upon publication, as permitted by 5 U.S.C. 808. Pursuant to 5 U.S.C. 808(2), EAC finds that good cause exists for making this rule effective upon publication in the Federal Register, based on the reasons cited in the preceding paragraph for the 553(b)(3)(B) determination.

List of Subjects

11 CFR Part 9405

Administrative practice and procedure, Confidential business information, Freedom of information.

11 CFR Part 9407

Administrative practice and procedure, Government employees, Sunshine Act.

11 CFR Part 9409

Administrative practice and procedure, Courts, Government employees.

11 CFR Part 9410

Administrative practice and procedure, Government employees, Privacy.

11 CFR Part 9420

Administrative practice and procedure, Civil rights, Grant programs, Individuals with disabilities.

11 CFR Part 9428

Elections, Reporting and recordkeeping requirements.

For the reasons stated in the preamble, the Election Assistance Commission amends 11 CFR parts 9405, 9407, 9409, 9410, 9420 and 9428 as follows:

PART 9405—PROCEDURES FOR DISCLOSURE OF RECORDS UNDER THE FREEDOM OF INFORMATION ACT

1. The authority citation for part 9405 continues to read as follows:

Authority: 5 U.S.C. 552, as amended.

§ § 9405.5 and 9405.7 [Amended]

2. Amend §§ 9405.5 and 9405.7 by removing the words “1201 New York Avenue NW, Suite 300, Washington, DC 20005” and adding in their place the words “1335 East-West Highway, Suite 4300, Silver Spring, MD 20910” in the following places:

a. Section 9405.5(a)(4)(ii) and (v); and

b. Section 9405.7(a).

PART 9407—IMPLEMENTATION OF THE GOVERNMENT IN THE SUNSHINE ACT

3. The authority citation for part 9407 continues to read as follows:

Authority: 5 U.S.C. 552b.

§ 9407.8 [Amended]

4. Amend § 9407.8 by removing the words “1201 New York Avenue NW, Suite 300, Washington, DC 20005” and adding in their place the words “1335 East-West Highway, Suite 4300, Silver Spring, MD 20910.”

PART 9409—TESTIMONY BY COMMISSION EMPLOYEES RELATING TO OFFICIAL INFORMATION AND PRODUCTION OF OFFICIAL RECORDS IN LEGAL PROCEEDINGS

5. The authority citation for part 9409 continues to read as follows:

Authority: 44 U.S.C. 3102.

§ § 9409.5, 9409.6 and 9409.14 [Amended]

6. Amend §§ 9409.5, 9409.6 and 9409.14 by removing the words “1201 New York Avenue NW, Suite 300, Washington, DC 20005” and adding in their place the words “1335 East-West Highway, Suite 4300, Silver Spring, MD 20910” in the following places:

a. Section 9409.5(a);

b. Section 9409.6; and

c. Section 9409.14(e).

PART 9410—IMPLEMENTATION OF THE PRIVACY ACT OF 1974

7. The authority citation for part 9410 continues to read as follows:

Authority: 5 U.S.C. 552a.

§ § 9410.3 and 9410.4 [Amended]

8. Amend §§ 9410.3 and 9410.4 by removing the words “1201 New York Avenue NW, Suite 300, Washington, DC 20005” and adding in their place the words “1335 East-West Highway, Suite 4300, Silver Spring, MD 20910” in the following places:

a. Section 9410.3(b); and

b. Section 9410.4(a).

PART 9420—NONDISCRIMINATION ON THE BASIS OF HANDICAP IN PROGRAMS OR ACTIVITIES CONDUCTED BY THE U.S. ELECTION ASSISTANCE COMMISSION

9. The authority citation for part 9420 continues to read as follows:

Authority: 29 U.S.C. 794.

§ 9420.8 [Amended]

10. Amend § 9420.8(d)(3) and (i) by removing the words “1201 New York Avenue NW, Suite 300, Washington, DC 20005” and adding in their place the words “1335 East-West Highway, Suite 4300, Silver Spring, MD 20910.”

PART 9428—NATIONAL VOTER REGISTRATION ACT (52 U.S.C. 20503 et seq.)

11. The authority citation for part 9428 continues to read as follows:

Authority: 42 U.S.C. 1973gg-1 et seq., 15532.

12. The heading of part 9428 is revised to read as set forth above.

§ 9428.7 [Amended]

13. Amend § 9428.7(a) by removing the words“1201 New York Avenue NW, Suite 300, Washington, DC 20005” and adding in their place the words “1335 East-West Highway, Suite 4300, Silver Spring, MD 20910.”

Dated: October 12, 2018.
Brian D. Newby,
Executive Director, U.S. Election Assistance Commission.

[FR Doc. 2018-23150 Filed 10-24-18; 8:45 am]

BILLING CODE P